DEPARTMENT OF EDUCATION

Notice of Submission for OMB Review

AGENCY: Department of Education.

ACTION: Comment request.

SUMMARY: The Acting Director, Information Collection Clearance Division, Privacy, Information and Records Management Services, Office of Management, invites comments on the submission for OMB review as required by the Paperwork Reduction Act of 1995 (Pub. L. 104-13).

DATES: Interested persons are invited to submit comments on or before July 21, 2011.

ADDRESSES: Written comments should be addressed to the Office of Information and Regulatory Affairs, Attention: Education Desk Officer, Office of Management and Budget, 725 17th Street, NW., Room 10222, New Executive Office Building, Washington, DC 20503, be faxed to (202) 395-5806 or e-mailed to oira_submission@omb.eop.gov with a cc: to ICDocketMgr@ed.gov. Please note that written comments received in response to this notice will be considered public records.

SUPPLEMENTARY INFORMATION: Section 3506 of the Paperwork Reduction Act of 1995 (44 U.S.C. Chapter 35) requires that the Office of Management and Budget (OMB) provide interested Federal agencies and the public an early opportunity to comment on information collection requests. The OMB is particularly interested in comments which: (1) Evaluate whether the proposed collection of information is necessary for the proper performance of the functions of the agency, including whether the information will have practical utility; (2) evaluate the accuracy of the agency's estimate of the burden of the proposed collection of information, including the validity of the methodology and assumptions used; (3) enhance the quality, utility, and clarity of the information to be collected; and (4) minimize the burden of the collection of information on those who are to respond, including through the use of appropriate automated, electronic, mechanical, or other technological collection techniques or other forms of information technology.

Dated: June 16, 2011.
James Hyler,
Acting Director, Information Collection Clearance Division, Privacy, Information and Records Management Services, Office of Management.

Institute of Education Sciences

Type of Review: Revision.

Title of Collection: 2011-12 National Postsecondary Student Aid Study (NPSAS:12) Full Scale Lists and Contacting.

OMB Control Number: 1850-0666.

Agency Form Number(s): N/A.

Frequency of Responses: Annually.

Affected Public: Not-for-profit institutions.

Total Estimated Number of Annual Responses: 4,665.

Total Estimated Annual Burden Hours: 4,128.

Abstract: National Postsecondary Student Aid Study (NPSAS), a nationally representative study of how students and their families finance education beyond high school, was first implemented by the National Center for Education Statistics in 1987 and has been fielded every 3 to 4 years since. This submission is for contacting respondents and collection of data from institutions in the eighth cycle in the series, NPSAS:12, and follows approvals for NPSAS:12 field test institutional and student data collections (OMB# 1850-0666 v. 7 & 8). NPSAS:12 will also serve as the base year study for the Beginning Postsecondary Students Longitudinal Study (BPS) of first-time postsecondary students that will focus on issues of persistence, degree attainment, and employment outcome. BPS will conduct follow-up studies in 2014 and 2017, with revised strata for institution sampling to reflect the recent growth in enrollment in for-profit 4-year institutions. Institution contacting for the full scale collection will begin in September 2011, list collection will be conducted January through June 2012, and student data collection will take place January through September 2012. This submission requests approval for contacting institutions and students, list sampling, obtaining student enrollment lists and institution record data for the full-scale NPSAS:12. A separate request for review pertaining to student record data collection, the student interview, and post-data collection administrative record matching will be submitted in September 2011.

Copies of the information collection submission for OMB review may be accessed from the RegInfo.gov Web site at http://www.reginfo.gov/public/do/PRAMain or from the Department's Web site at http://edicsweb.ed.gov, by selecting the “Browse Pending Collections” link and by clicking on link number 4636. When you access the information collection, click on “Download Attachments” to view. Written requests for information should be addressed to U.S. Department of Education, 400 Maryland Avenue, SW., LBJ, Washington, D.C. 20202-4537. Requests may also be electronically mailed to the Internet address ICDocketMgr@ed.gov or faxed to 202-401-0920. Please specify the complete title of the information collection and OMB Control Number when making your request.

Individuals who use a telecommunications device for the deaf (TDD) may call the Federal Information Relay Service (FIRS) at 1-800-877-8339.

[FR Doc. 2011-15418 Filed 6-20-11; 8:45 am]

BILLING CODE 4000-01-P